DEPARTMENT OF COMMERCE

International Trade Administration

[A-357-825]

White Grape Juice Concentrate From Argentina: Postponement of Preliminary Determination in the Less-Than-Fair-Value Investigation

AGENCY: Enforcement and Compliance, International Trade Administration, Department of Commerce.

DATES: Applicable August 24, 2022.

FOR FURTHER INFORMATION CONTACT: Jacob Saude or Myrna Lobo, AD/CVD Operations, Office VII, Enforcement and Compliance, International Trade Administration, U.S. Department of Commerce, 1401 Constitution Avenue NW, Washington, DC 20230; telephone: (202) 482-0981 or (202) 482-2371, respectively.

SUPPLEMENTARY INFORMATION:

Background

On April 20, 2022, the U.S. Department of Commerce (Commerce) initiated a less-than-fair-value (LTFV) investigation of imports of white grape juice concentrate (WGJC) from Argentina.¹ Currently, the preliminary determination is due no later than September 7, 2022.

¹ See White Grape Juice Concentrate from Argentina: Initiation of Less-Than-Fair Value Investigation, 87 FR 24934 (April 27, 2022).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 5, 2022, the petitioner ² submitted a timely request that Commerce postpone the preliminary determination in this LTFV investigation.³ The petitioner stated that it requests postponement to ensure that Commerce is able to sufficiently review all questionnaire responses, issue supplemental questionnaires, and prepare an accurate preliminary determination.⁴

² The petitioner is Delano Growers Grape Products, LLC.

³ See Petitioner's Letter, “Petition for the Imposition of Antidumping: White Grape Juice Concentrate from Argentina Petitioner's Request for Postponement of Preliminary Determination,” dated August 5, 2022.

⁴ Id.

For the reasons stated above and because there are no compelling reasons to deny the request, Commerce, in accordance with section 733(c)(1)(A) of the Act and 19 CFR 351.205(e), is postponing the deadline for the preliminary determination by 50 days (i.e., 190 days after the date on which this investigation was initiated). As a result, Commerce will issue its preliminary determination no later than October 27, 2022. In accordance with section 735(a)(1) of the Act and 19 CFR 351.210(b)(1), the deadline for the final determination of this investigation will continue to be 75 days after the date of the preliminary determination, unless postponed at a later date.

Notification to Interested Parties

This notice is issued and published pursuant to section 733(c)(2) of the Act and 19 CFR 351.205(f)(1).

Dated: August 18, 2022.
Lisa W. Wang,
Assistant Secretary for Enforcement and Compliance.

[FR Doc. 2022-18209 Filed 8-23-22; 8:45 am]

BILLING CODE 3510-DS-P